DEPARTMENT OF LABOR

Employment and Training Administration

[TA-W-41,451]

Powerex, Inc., Youngwood, PA; Amended Notice of Revised Determination On Reconsideration

In accordance with section 223 of the Trade Act of 1974 (19 U.S.C. 2273) the Department of Labor issued a Notice of Revised Determination on Reconsideration on April 17, 2003, applicable to workers of Powerex, Inc, Youngwood, Pennsylvania. The notice will be published soon in the Federal Register.

At the request of the State agency, the Department reviewed the certification for workers of the subject firm. The workers produce semiconductor products (thyristors and rectifiers).

New findings show that there was a previous certification, TA-W-37,447, issued on June 16, 2000, for workers of Powerex, Inc., Youngwood, Pennsylvania who were engaged in employment related to the production of semiconductor products (thyristors and rectifiers). That certification expired June 16, 2002. To avoid an overlap in worker group coverage, the revised determination is being amended to change the impact date from March 8, 2002, to June 17, 2002, for workers of the subject firm.

The amended notice applicable to TA-W-41,451 is hereby issued as follows:

All workers of Powerex, Youngwood, Pennsylvania, who became totally or partially separated from employment on or after June 17, 2002, through April 17, 2005, are eligible to apply for adjustment assistance under section 223 of the Trade Act of 1974.

Signed in Washington, DC this 29th day of April, 2003.
Elliott S. Kushner,
Certifying Officer, Division of Trade Adjustment Assistance.

[FR Doc. 03-11542 Filed 5-8-03; 8:45 am]

BILLING CODE 4510-30-P